NATIONAL AERONAUTICS AND SPACE ADMINISTRATION

[Notice 03-137]

Government-Owned Inventions, Available for Licensing

AGENCY: National Aeronautics and Space Administration.

ACTION: Notice of Availability of Inventions for Licensing.

SUMMARY: The inventions listed below are assigned to the National Aeronautics and Space Administration, have been filed in the United States Patent and Trademark office, and are available for licensing.

DATES: November 4, 2003.

FOR FURTHER INFORMATION CONTACT: James McGroary, Patent Counsel, Marshall Space Flight Center, Mail Code LS01, Huntsville, AL 35812; telephone (256) 554-0013; fax (256) 544-0258.

NASA Case No. MFS-31637-1: Low Gravity Glass Plate Processing Facility;

NASA Case No. MFS-31706-1: Single Ball Bearing Lubricant And Material Evaluator;

NASA Case No. MFS-31785-1: Video Guidance Sensor System With Integrated Rangefinding;

NASA Case No. MFS-31807-1: Global Radius Of Curvature Estimation And Control System For Segmented Mirrors;

NASA Case No. MFS-31843-1: Fiber Coupled Laser Diodes With Even Illumination Pattern;

NASA Case No. MFS-31865-1: Control Method For Video Guidance Sensor System;

NASA Case No. MFS-31905-1: Releasable Locking Mechanisms;

NASA Case No. MFS-31906-1: Orthopedic Leg Brace.

NASA Case No. MFS-31823-1: Radio-frequency Driven Dielectric Heaters For Non-Nuclear Testing In Nuclear Core Development.

Dated: October 29, 2003.
Robert M. Stephens,
Deputy General Counsel.

[FR Doc. 03-27680 Filed 11-3-03; 8:45 am]

BILLING CODE 7510-01-P